DEPARTMENT OF JUSTICE

Drug Enforcement Administration

Raman I. Popli, M.D.; Decision and Order

On May 4, 2017, the Assistant Administrator, Diversion Control Division, Drug Enforcement Administration (hereinafter, DEA or Government), issued an Order to Show Cause to Raman Popli, M.D. (hereinafter, Registrant) of McHenry, Illinois, the holder of Certificate of Registration No. BP7189067. GX 2 (Registration Certificate). The Show Cause Order proposed the revocation of Registrant's Certificate of Registration on the ground that Registrant does “not have authority to handle controlled substances in the State of Illinois,” the State in which he is registered. GX 1, at 1 (citing 21 U.S.C. 823(f) and 824(a)(3)).

As the jurisdictional basis for the proceeding, the Show Cause Order alleged that registration BP7189067, pursuant to which Registrant is authorized to prescribe controlled substances in Schedules II through V, expires on March 31, 2019. Id.

As the substantive grounds for the proceeding, the Show Cause Order alleged that Registrant currently lacks “authority to handle controlled substances in the State of Illinois.” Id. It alleged that, on March 13, 2017, Illinois suspended Registrant's “authority to prescribe and administer controlled substances.” Id.

The Show Cause Order notified Registrant of his right to request a hearing on the allegation or to submit a written statement while waiving his right to a hearing, the procedures for electing each option, and the consequences for failing to elect either option. Id. at 2, citing 21 CFR 1301.43. The Show Cause Order also notified Registrant of the opportunity to submit a corrective action plan. Id., citing 21 U.S.C. 824(c)(2)(C).

On May 5, 2017, a DEA Office of Chief Counsel Legal Assistant faxed and mailed “via USPS First Class Mail” a copy of the Show Cause Order to Registrant's attorney, Alan Rhine, Esq., at the fax number and business address he provided. GX 5, at 1 (Legal Assistant Declaration dated June 8, 2017) and attachment. The Legal Assistant's Declaration appended emails to and from Registrant's attorney confirming that Registrant authorized him to accept service of documents from the DEA on Registrant's behalf. Id. I find that the Government's service of the Show Cause Order on Registrant was legally sufficient.

The Government submitted a Request for Final Agency Action (hereinafter, RFAA) dated June 9, 2017 and an evidentiary record to support the Show Cause Order's allegations. According to the Government's representations in the RFAA, “more than thirty days have passed since the Order to Show Cause was served on Respondent and no request for hearing has been received by DEA, and . . . no written statement or other correspondence has been filed in lieu of a hearing request.” RFAA, at 1.

Based on the Government's representations and my review of the record, I find that more than 30 days have now passed since the date of service of the Show Cause Order on Registrant through his attorney, and that neither Registrant, his attorney, nor anyone else purporting to represent him, has requested a hearing or submitted a written statement while waiving his right to a hearing. Accordingly, I find that Registrant has waived his right to a hearing and his right to submit a written statement. 21 CFR 1301.43(d). I therefore issue this Decision and Order based on the record submitted by the Government. 21 CFR 1301.43(e).

Findings of Fact

Registrant's DEA Registration

Registrant currently holds DEA practitioner registration BP7189067 authorizing him to dispense controlled substances in Schedules II through V. GX 2. This registration expires on March 31, 2019. Id.

DEA practitioner registration BP7189067 is assigned to Registrant at “Dr Raman Popli and Associates, Ltd, 5415 Bull Valley Road, McHenry, IL 60050.” Id.

The Status of Registrant's State Licenses

On March 13, 2017, the Director of the Division of Professional Regulation of the Illinois Department of Financial and Professional Regulation issued an Order suspending Registrant's Illinois Physician and Surgeon License No. 036-104035 and Illinois Controlled Substance License No. 336-064820 pending proceedings before an Administrative Law Judge at the Department of Financial and Professional Regulation and the Medical Disciplinary Board of the State of Illinois. GX 3 (Order, at 1-2).¹ According to the Order, “the public interest, safety and welfare imperatively require emergency action to prevent the continued practice of Raman Popli, M.D., Respondent, in that Respondent's actions constitute an immediate danger to the public.” Id. (Order, at 1).

¹ Since the pages in GX 3 are not consecutively paginated, this Decision and Order identifies the relevant document in GX 3 and the relevant page number of that document.

Discussion

Pursuant to 21 U.S.C. 824(a)(3), the Attorney General is authorized to suspend or revoke a registration issued under section 823 of the Controlled Substances Act (hereinafter, CSA), “upon a finding that the registrant . . . has had his State License . . . suspended [or] . . . revoked by competent State authority and is no longer authorized by State law to engage in the . . . dispensing of controlled substances.” With respect to a practitioner, the DEA has also long held that the possession of authority to dispense controlled substances under the laws of the State in which a practitioner engages in professional practice is a fundamental condition for obtaining and maintaining a practitioner's registration. See, e.g., James L. Hooper, 76 FR 71,371 (2011), pet. for rev. denied, 481 Fed. Appx. 826 (4th Cir. 2012); Frederick Marsh Blanton, 43 FR 27,616 (1978).

This rule derives from the text of two provisions of the CSA. First, Congress defined the term “ ‘practitioner' [to] mean[ ] a . . . physician, dentist, . . . or other person licensed, registered, or otherwise permitted, by . . . the jurisdiction in which he practices . . ., to distribute, dispense, [or] administer . . . a controlled substance in the course of professional practice . . . .” 21 U.S.C. 801(21). Second, in setting the requirements for obtaining a practitioner's registration, Congress directed that “[t]he Attorney General shall register practitioners . . . if the applicant is authorized to dispense . . . controlled substances under the laws of the State in which he practices.” 21 U.S.C. 823(f). Because Congress has clearly mandated that a practitioner possess state authority in order to be deemed a practitioner under the CSA, the DEA has held repeatedly that revocation of a practitioner's registration is the appropriate sanction whenever he is no longer authorized to dispense controlled substances under the laws of the State in which he practices. See, e.g., Hooper, 76 FR at 71,371-72; Sheran Arden Yeates, 71 FR 39,130, 39,131 (2006); Dominick A. Ricci, 58 FR 51,104, 51,105 (1993); Bobby Watts, 53 FR 11,919, 11,920 (1988); Blanton, 43 FR at 27,616.

Under Illinois law, “[n]o person shall practice medicine . . . without a valid, active license to do so . . . .” 225 ILCS 60/3 (2017). Further, “[e]very person who . . . dispenses any controlled substances . . . must obtain a registration issued by the [Illinois] Department of Financial and Professional Regulation in accordance with its rules.” 720 ILCS 570/302(a).

In this case, the Division of Professional Regulation of the Illinois Department of Financial and Professional Regulation took emergency action to suspend Registrant's Physician and Surgeon License and Illinois Controlled Substance License. Supra. Consequently, Registrant is not currently authorized to handle controlled substances in the State of Illinois, the State in which he is registered, and he is not entitled to maintain his registration. Blanton, supra. Accordingly, I will order this his registration be revoked and that any pending application for the renewal or modification of his registration be denied. 21 U.S.C. 824(a)(3) and 823(f).

Order

Pursuant to the authority vested in me by 21 U.S.C. 824(a), as well as 28 CFR 0.100(b), I order that DEA Certificate of Registration BP7189067 issued to Raman I. Popli, M.D., as well as DATA-Waiver Identification No. XP7189067, be, and they hereby are, revoked. I further order that any pending application of Raman I. Popli, M.D., to renew or modify this registration, as well as any other pending application by him for registration in the State of Illinois, be, and it hereby is, denied. This order is effective immediately.²

² For the same reasons the Division of Professional Regulation of the Illinois Department of Financial and Professional Regulation suspended Registrant's Illinois Physician and Surgeon License and Illinois Controlled Substance License, I find that the public interest necessitates that this Order be effective immediately. 21 CFR 1316.67.

Dated: August 4, 2017.
Chuck Rosenberg,
Acting Administrator.

[FR Doc. 2017-17146 Filed 8-14-17; 8:45 am]

BILLING CODE 4410-09-P